DEPARTMENT OF JUSTICE

Notice of Lodging of Proposed Consent Decree Under the Comprehensive Environmental Response, Compensation and Liability Act

On September 16, 2014, the Department of Justice lodged a proposed consent decree with the United States District Court for the District of New Jersey in United States and New Jersey Department of Environmental Protection and Administrator of the New Jersey Spill Compensation Fund v. D.S.C. of Newark Enterprises, Inc. and Anthony A. Coraci, Civil Action No. 2:14-cv-05734-JLL-MAH.

The proposed consent decree would resolve the claims of the United States and the State of New Jersey Department of Environmental Protection and Administrator of the New Jersey Spill Compensation Fund for recovery of response costs and natural resource damages against D.S.C. of Newark Enterprises, Inc. (“DSC”) under section 107(a) of the Comprehensive Environmental Response, Compensation, and Liability Act (“CERCLA”) relating to releases of hazardous substances at the Cornell-Dubilier Electronics, Inc. Superfund Site in South Plainfield, New Jersey (“the Site”). The consent decree would also resolve the United States' claims under the Federal Debt Collection Procedures Act, to void certain transfers of assets that were made from DSC to its sole shareholder, Anthony A. Coraci (“Coraci”), to the extent necessary to satisfy DSC's debt to the United States.

The consent decree requires DSC and Coraci (“the Settling Defendants”) to pay $22.0 million to the United States and New Jersey, and 50% of the Settling Defendants' insurance recoveries in excess of $750,000, net of certain fees incurred to obtain the recoveries. The consent decree also requires DSC, the current owner of property at the Site, to continue to allow access to EPA to conduct response actions at the Site, to obtain an agreement from any transferee to allow such access, and to cooperate with respect to the filing of a deed notice, engineering controls, restrictions on use and alterations of the property, and monitoring requirements concerning the property at the Site. In return, the United States and New Jersey agree to resolve all past and future liability the Settling Defendants and specified related parties (“Related Parties”) may have for response costs and natural resource damages at the Site under section 107 of CERCLA. The United States further agrees not to sue or take administrative action against the Settling Defendants and Related Parties under section 7003 of the Resource Conservation and Recovery Act (“RCRA”), and the State further agrees not to sue or take administrative action against the Settling Defendants and Related Parties under the New Jersey Spill Compensation and Control Act or the Industrial Site Recovery Act, the common law of negligence, nuisance and/or strict liability, with regard to the Site. In addition, upon receipt of the payments required by the Settling Defendants, the United States and New Jersey agree to release the respective federal and state liens placed on DSC's property at the Site.

The publication of this notice opens a period for public comment on the consent decree. Comments should be addressed to the Assistant Attorney General, Environment and Natural Resources Division, and should refer to United States and New Jersey Department of Environmental Protection and Administrator of the New Jersey Spill Compensation Fund v. D.S.C. of Newark Enterprises, Inc. and Anthony A. Coraci, D.J. Ref. No. 90-11-2-08223/4. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $8.50 (25 cents per page reproduction cost) payable to the United States Treasury.

Maureen M. Katz,
Assistant Section Chief, Environmental Enforcement Section, Environment and Natural Resources Division.

[FR Doc. 2014-22609 Filed 9-23-14; 8:45 am]

BILLING CODE 4410-15-P